DEPARTMENT OF AGRICULTURE

[OES-2014-0001]

Announcement of Requirements and Registration for the U.S. Tall Wood Building Prize Competition

AGENCY: USDA.

ACTION: Notice.

Authority: 15 U.S.C. 3719.

SUMMARY: The U.S. Department of Agriculture in a cooperative partnership with the Softwood Lumber Board and the Binational Softwood Lumber Council is conducting a prize competition funding initiative to support the demonstration of tall wood buildings in the United States. The U.S. Tall Wood Building Prize Competition (the “Competition”) is being conducted to showcase the architectural and commercial viability of advanced wood products in tall building construction in order to support employment opportunities in rural communities, maintain the health and resiliency of the Nation's forests, and advance sustainability in the built environment.

Using wood obtained through sustainable forestry practices in green building applications promotes a healthy environment and a strong economy. The timber industry is an important job creator and supports hundreds of local communities, many of them rural. A recent life cycle analysis found that harvesting, transporting, manufacturing, and using wood in lumber and panel products in building yields fewer air emissions—including greenhouse gases—than the resource extraction, manufacture, and use of other common building materials.

There are barriers to being the first to adopt new building materials and systems, most notably the costs of analyzing novel design and engineering alternatives and verifying that these solutions comply with applicable code(s). The funds made available for the Competition will support costs associated with pioneering the use of advanced wood products and systems in tall buildings and open the door for more widespread adoption of the innovative materials.

The objective of the Competition is to identify one or more proponents with existing viable projects and capable design and construction teams willing to convert their existing project from a traditionally constructed tall building to a design and construction approach using advanced wood building materials, new composite or hybrid wood methods, and/or existing proven alternative solution techniques.

The Competition prize purse will be awarded to selected proponent(s) to cover the incremental costs of converting from traditional construction to wood construction. The selected proponent(s) will be the team demonstrating the best ability to utilize new scientific data, to develop technical expertise, and to use incremental funding to safely design, specify, and construct a building of a minimum of eighty feet (80') in height (not including a reinforced concrete podium) in the United States of America that can showcase the application, practicality, and sustainability of innovative wood based structural building solutions in tall building construction.

DATES:

Competition Submission Period: October 9, 2014-December 8, 2014.

Evaluation and Judging: December 8, 2014-January 2015.

Verification of Potential Winner(s:) January 2015.

Announcement of Winner(s) & Signing of Preliminary Funding Agreement(s): February 2015.

The Competition Submission Period begins October 9 at 10:00 a.m. ET and ends December 8, 2014 at 12:00 a.m. ET. The Competition Sponsor's computer, set to Eastern Time, is the official time-keeping device for this Competition.

Competition dates are subject to change at the discretion of the Competition Sponsor. Entries submitted before or after the Competition Submission Period will not be reviewed or considered for award.

Competition Questions, Changes, and Results

Changes or updates to the Competition rules will be posted and can be viewed at the Competition Web site at: www.tallwoodbuildingcompetition.org.

Questions about the Competition can be directed by email to the Competition Sponsor at: Oscar Faoro, Project Manager, U.S. Tall Wood Building Prize Competition, OscarFaoro@tallwoodbuildingcompetition.org.

Results of the Competition will be announced on or about February 2015 on the Competition Web site: www.tallwoodbuildingcompetition.org.

SUPPLEMENTARY INFORMATION:

Competition Partners and Competition Sponsor

The U.S. Department of Agriculture (“USDA”) is the department of the U.S. Federal government that provides leadership on food, agriculture, natural resources, forestry, rural development, nutrition, and other issues related to agriculture in America. Web site: www.usda.gov

The Softwood Lumber Board (“SLB”) is an industry funded Check-off Program established in cooperation with the USDA's Agricultural Marketing Service to promote the benefits and uses of softwood lumber products in outdoor, residential, and non-residential construction. Programs supported by the SLB focus on increasing the demand for softwood lumber products in the United States. Web site: www.softwoodlumberboard.org

The Canadian and U.S. Federal governments established the Binational Softwood Lumber Council (“BSLC”) as part of the 2006 Softwood Lumber Agreement “to promote increased cooperation between the U.S. and Canadian softwood lumber industries and to strengthen and expand the market for softwood lumber products in both countries”. The BSLC is a leading funder of efforts to increase the use of softwood lumber products as part of the shift to green building. Sustainably harvested softwood lumber products from North America create jobs in rural communities, sequester significant amounts of carbon, and help reduce the overall environmental footprint of a home or building. Web site: www.softwoodlumber.org

Collectively the USDA, SLB, and BLSC are the “Competition Partners.” The SLB is the “Competition Sponsor.” The Competition Sponsor, in coordination with the Competition Partners, will make all decisions related to the development, management, and implementation of the Competition.

The Competition Sponsor and the winning Project Proponent Team(s) will enter into funding agreement(s) after the Competition that will govern the obligations of the Project Proponent Team, the process for submitting Eligible Expenses, and disbursements from and administration of the Prize Purse. A sample Funding Agreement can be found on the Competition Web site: www.tallwoodbuildingcompetition.org.

Eligibility Rules for Participating in the Competition

The competition is open to Project Proponent Teams consisting of real estate developers, institutions (e.g., universities), and other corporations or legal organizations (e.g., partnerships or nonprofit organizations), and their design and construction team partners. Each team member must be either:

(1) Individuals that are part of the Project Proponent Team must be residents of the 50 United States, the District of Columbia, Puerto Rico, the U.S. Virgin Islands, Guam, and American Samoa; or

(2) Corporations, institutions, or other legal entities that are part of the Project Proponent Team must be organized in and maintain a primary place of business in any jurisdiction specified in (1).

Project Proponent Teams shall identify a single lead applicant individual or entity in their Competition entries (the “Team Lead”). The Team Lead is responsible for providing and meeting all entry and evaluation requirements.

All proposed projects must be located in one of the 50 United States, the District of Columbia, Puerto Rico, the U.S. Virgin Islands, Guam, or American Samoa.

To be eligible to win the Competition, Project Proponent Team members must not be suspended, debarred, or otherwise excluded from doing business with the U.S. Federal Government.

A Project Proponent Team shall not be deemed ineligible because the Project Proponent Team used Federal facilities or consulted with Federal employees in preparing its submission to the Competition if the facilities and employees are made available to all Project Proponent Teams on an equitable basis.

None of the Competition Partners or any of their respective affiliates, subsidiaries, or any other company or entity involved with the design, production, execution, or distribution of the Competition is eligible. None of the Competition Partners' employees may participate as members of a Project Proponent Team.

Non-USDA Federal employees acting in the capacity of their Federal employment are not eligible members of a Project Proponent Team. Non-USDA Federal employees acting in their personal capacity should consult with their respective office of ethics to determine whether their permission as a member of a Project Proponent Team is permissible.

Registration Process for Participants

Project Proponent Teams may begin submitting Competition entries at 10:00 a.m. EST on October 9, 2014 to the Submit page of the Competition Web site at: www.tallwoodbuildingcompetition.org.

Competition entries must be submitted no later than 12:00 a.m. on December 7, 2014 to the Submit page of the Competition Web site at: www.tallwoodbuildingcompetition.org.

Formatting

• Entries must be in pdf format.

• Entries must include a table of contents and be consecutively paginated.

• Entries must include a cover letter containing the information set out in below in the Mandatory Elements section, subsection A.

• Entries must not exceed 30 pages or 20 megabytes including appendices.

• Entries must be in English.

• All accounting figures contained in entries must be in U.S. dollars.

Entries submitted late will not be evaluated or considered for award.

Entries sent to the Competition Sponsor or Competition Partners in any manner other than through the Submit page of the Competition Web site will not be evaluated or considered for award.

Entries that do not comply with the formatting requirements will not be evaluated or considered for award.

Competition Award(s)

The Prize Purse is a combined pool from the Competition Partners of $2 million. The Prize Purse may increase, but will not decrease. Any increases in the Prize Purse will be posted on the Competition Web site and published in the Federal Register. The Prize Purse will be used to fund one or more awards; the number of awards made will depend on the estimated amount of Eligible Expenses proposed by the winning Project Proponent Team(s). Award(s) will be made to the winning Project Proponent Team(s) to cover incremental costs of transitioning their building from a traditional structure to a wood structure, i.e., those costs incurred only because of the Project Proponent Team's innovative use of wood products in the demonstration structure.

Incremental costs that may be paid for using the award(s) from the Prize Purse are the Eligible Expenses listed below. The winning Project Proponent Team(s) will be required to enter into a post-Competition funding agreement (“Funding Agreement”) with the Competition Sponsor, and to submit incremental costs for approval as Eligible Expenses prior to receiving disbursements of funds from the Prize Purse.

The winning Project Proponent Team(s) is encouraged to seek additional sources of funding beyond the Prize Purse to promote the project's transition from a traditional structure to a wood structure.

All costs incurred in the preparation of Competition entries are to be borne by Project Proponent Teams. Entry preparation costs will not be a Prize Purse Eligible Expense.

Eligible Expenses

The following types of incremental costs of transitioning the winning Project Proponent Team(s) building from a traditional structure to a wood structure will be eligible for reimbursement from the awarded Prize Purse funds.

Schematic Design, Design Development, and Construction Drawings

• Architecture.

○ Concept and design development.

• Engineering.

○ Incremental preliminary evaluation of possible structural solutions and building serviceability related issues.

○ Incremental design expenses related to the design of the wood structure.

○ Integration of novel solutions when detailing structural documents for tendering and construction.

• Fire safety and protection.

○ Fire and building safety strategies, related issues, and possible solutions.

• Building enclosure.

○ Examination of issues and detailing solutions related to the building's exterior facade.

• Mechanical and electrical interfaces.

○ Strategies and issue resolutions related to system integration.

• Secondary impact and preliminary cost analysis related to use of wood products, components and systems, and related construction methodologies.

Research, Testing, and Other Required Support by Third Parties

• Research.

○ Related to acoustic, fire, seismic, vibration, connections, building envelop assembly materials, and construction techniques.

• Modeling and testing.

○ Costs associated with product, component, and/or system modeling and testing.

Building System Code Acceptance, Final Cost Analysis and Approvals

• Architecture and engineering.

○ Comprehensive resolution of design issues.

• Final code review, final cost analysis, and preparation of documents and peer review process costs.

• Additional design modeling or testing requirements.

• Final documents and presentations to the Local Authority(ies) for building permit approvals.

• Other project approval costs.

Construction

• Project construction fees associated with wood construction that would not otherwise be required.

• Quality control, site inspection, and site safety costs.

• Weather protection costs related to protecting materials and constructed assemblies during the building process.

• Fire protection and site security costs.

• Risk management related costs.

Related Activities and Other Costs Not Noted but Directly Attributable to the Development and Construction of a Wood Solutions for the Project

• Incremental supervision and trade training associated with the proposed wood solution(s).

• Instrumentation during construction and ongoing monitoring costs associated with building performance of critical wood components or assemblies.

• Extra-ordinary course of construction insurance premiums and other extra-ordinary insurance costs which can be clearly defined.

• Construction site access requested by the Competition Partners that may cause the proponent to incur additional costs; i.e., construction disruption and additional site safety requirements that may result from visitor tours or promotional events.

Mandatory Entry Elements

All Competition entries must include information addressing all of the mandatory elements. Any entry that fails to include information addressing all of the mandatory elements will not be considered for award.

A. Each Competition entry must include a cover letter that (1) affirmatively represents that the Project Proponent Team has read and consents to be governed by the Competition rules and meets the eligibility requirements, and (2) clearly lists the following project and Project Proponent Team information:

• A brief description of the project, including location details, proposed occupancy, proposed building height, and proposed construction start date;

• The name of the title holder for the property site being considered for the project;

• The members of the Project Proponent Team, the Team Lead, key contacts and contact details for the Team Lead, and a brief description of the relationship amongst and agreements in place between the Team Lead and members of the Project Proponent Team;

• The estimated amount of Eligible Expenses attributable to transitioning the project from traditional construction to wood construction; and

• A clear statement that the Project Proponent Team commits to have some wood material sourced from and manufactured by domestic Rural Sources.

B. Each Competition entry must include information addressing the following elements:

1. Project Specifics and Details

Competition entries must include the following details about the proposed project:

• The legal description of the parcel of land proposed for use as the project site;

• The name of the title holder for the parcel of land proposed for use as the project site;

○ If the title holder is not a member of the Project Proponent Team, include a description of the agreement(s) entered into with the title holder for use of the parcel of land proposed for use as the project site;

• Current and proposed zoning of the parcel of land proposed for use as the project site;

• Status of required development permit(s) for both the project site and the project itself;

• A project site plan;

• A project rendering; and

• A description of the proposed accessibility and visibility of the project on a national architectural scale.

2. Business Case for Project

Competition entries must include information setting out the Project Proponent Team's business case, specifically:

• Project Proponent Team's experience with building development, tall building design and construction;

• The proposed project financing plan;

• A preliminary project budget;

• The estimated amount of Eligible Expenses attributable to transitioning the project from traditional construction to wood construction;

• A reasonably detailed schedule of when and where Eligible Expenses would be incurred, outlining how the Prize Purse will be utilized. The schedule shall include dates of expected Prize Purse funding requests;

• A planned timeline of project development and construction;

• A narrative describing how the proposed wood solution and project compares with other more commonly used structural solutions and buildings in the market; and

• A summary discussing market research and estimating the regional demand for the residential, commercial, institutional, or industrial spaces included in the proposed project.

Competition entries also must include information about the local authority(ies) having jurisdiction over the project and/or project site (“Local Authority(ies)”):

• Name(s) of and contact information for the Local Authority(ies) having jurisdiction over the project and/or project site;

• A discussion of the previous experience of the Local Authority(ies) approving projects using a code alternate approach;

○ Note that Project Proponent Team experience working with the Local Authority(ies) on a prior successfully completed code alternate project will be evaluated more highly than a general discussion of the code alternate experience of the Local Authority(ies) with other developers; and

• Project Proponent Teams must request from the Local Authority(ies) a letter (letters) indicating a willingness on the part of the Local Authority(ies) to engage with the Project Proponent Team in a cooperative effort to develop a code alternate solution for the proposed project.

○ If the Local Authority(ies) cannot provide the requested letter(s) before the deadline for submission of Competition entries, the Project Proponent Team instead may include a written description detailing the engagement the Project Proponent Team has had to date with the Local Authority(ies) and the nature of the response(s) received from the Local Authority(ies).

Note: Competition entries with the requested letter(s) will be evaluated more highly than those without.

Note: The Project Proponent Team(s) that is evaluated highest will be required to provide the requested letter(s) prior to being officially selected as the Competition winner(s) and awarded the Prize Purse.

3. Proposed Wood Solution

Competition entries must include information setting out the Project Proponent Team's proposed wood solution, specifically:

• Proposed structural system;

○ Detailed information about the feasibility of the proposed structural solution being proposed for the project; e.g., has it been used commonly elsewhere; has it previously been tested and applied, or is it experimental and still requiring research, analysis, modeling, and testing;

• A preliminary concept of the proposed structural solution with information about available research to support the solution, or the possible breadth of analysis or testing requirements needed to validate the solution; and

4. Sustainability

Competition entries must include information about the project's sustainability, specifically:

• A narrative detailing the project's environmental impact or footprint, and the sustainability elements featured in the project;

• The narrative must address the anticipated levels of impact of the proposed project from a sustainability and performance perspective including references to life cycle assessment, inventory, impact and costing, carbon sequestration, embodied energy and expected energy usage.

5. Rural Economic Ties

Competition entries must include information setting out the project's ties to stimulating the rural economy, specifically:

• An economic narrative describing the potential of the project and/or wood materials used in the project to positively impact the U.S. rural economy;

• A proposed plan for working with Competition Sponsor to develop a post-project Tall Wood Building Demonstration Report, for use within the building industry, that details lessons learned and makes recommendations about building tall wood structures in the United States; and

• A statement detailing the Project Proponent Team's commitment to have some of the wood material used in the proposed wood solution sourced from and manufactured by domestic (U.S.) Rural Sources.

○ Note: “Rural Sources” are sources in any areas other than: (1) A city or town that has a population of greater than 50,000 inhabitants; and (2) the urbanized area contiguous and adjacent to such a city or town, as defined by the U.S. Bureau of the Census using the 2010 census of the United States.

The following Web site can be used as a general non-guaranteed guide to assist in determining whether or not a particular area is likely rural: http://eligibility.sc.egov.usda.gov/eligibility/welcomeAction.do.

Optional Entry Elements

Competition entries are not required to include information addressing the optional elements, but including information addressing all of the optional elements will increase chances of winning.

Entries that include information addressing some or all of the optional elements will be evaluated more highly than entries that do not address any of the optional elements.

1. Project Specific Details

Competition entries should include additional detailed project information, specifically:

• The proposed building enclosure, and information about how enclosure issues might be resolved for the specific location, design, and occupancy of the proposed project.

2. Business Case for Project

Competition entries should include additional information setting out the Project Proponent Team's business case, specifically:

• The curricula vitae of the Project Proponent Team design team member(s) and/or key consultants; and

• Examples of past projects designed and completed that are similar to the proposed project in form and scale.

3. Proposed Wood Solution

Competition entries should include additional information about the proposed wood solution, specifically:

• The potential advantages and/or costs savings of the proposed structural system and the overall project from a constructability and competitive perspective over traditional methods of building tall structures including but not limited to; land utilization, integrated and detailed design; prefabrication opportunities, and speed of erection impacting directly or indirectly other inter-related secondary or tertiary aspects of construction.

• A fire protection strategy for the project, and detailed information about the proposed fire protection systems and/or fire resistance applications proposed, and whether the proposed systems/applications have been successfully used in wood structures elsewhere or are experimental.

4. Sustainability

In addition to the information requested with the mandatory elements, competition entries should include information about the project's sustainability, specifically:

• Any sustainable timber harvest practices, certifications, or other land management information pertinent to anticipated product use.

5. Rural Economic Ties

Competition entries should include additional information setting out the project's ties to stimulating the rural economy, specifically:

• Details about where key structural and architectural wood products and related materials or complementary products will be sourced, produced, or fabricated, and the extent to which these materials will come from domestic (U.S.) Rural Sources.

Evaluation, Judging, and Selection of Winner(s)

The Competition Sponsor will screen all entries for eligibility and inclusion of all the mandatory elements. Entries from Project Proponent Teams that do not meet the eligibility requirements set out above in the Eligibility Rules for Participating in the Competition section and/or that fail to include one or more of the mandatory elements set out above in the Mandatory Entry Elements section will not be evaluated or considered for award.

Eligible and complete entries will be judged by a fair and impartial panel of individuals (the “Judging Panel”) from the Competition Partners and from outside organizations with expertise in tall building design and construction.

Competition entries that include information about only the mandatory elements can earn an evaluated base score of up to 100%. Competition entries that include information about some or all of the optional elements can earn an evaluated base plus bonus score of up to 125%. The Judging Panel will evaluate and score each eligible Competition entry, and will recommend for award to the Competition Partners the entry(ies) with the highest combined base plus bonus score(s). The Competition Partners will, in their sole discretion, make award based on consideration of the Judging Panel's evaluations and recommendations and the anticipated contribution of the winning entry(ies) to fostering transformative change in building practices through replicable or iconic demonstration and the anticipated unique contributions of the winning entry(ies) to rural economic opportunity. The Competition Partners reserve the right to select other than the highest scoring entry(ies) for award. The Competition Partners, in their sole discretion, may identify competition finalists prior to a final award determination. The Judging Panel will evaluate entries based upon the following mandatory criteria:

1. Project Specifics and Details—Mandatory Element Criteria—15%

• Viability of the proposed project—based on site ownership, site parameters, site zoning, the stage of design development as presented, and the stage of the development permit(s) as described.

• Ability of the project to foster transformative change in the built environment—based on the project's iconic architecture or engineering, or high profile accessibility or visibility.

2. Business Case for Project—Mandatory Element Criteria—30%

• The Project Proponent Team's summary of experience with building development and tall building design and construction

• Viability of the Project Proponent Team's business case—presentation of financial metrics, base assumptions, demand estimation for the project's space, market analysis, budgets, partnership agreements, regional or national socio-economic impact of the project, etc.; and based on an estimated summary of `Eligible Expenses'.

• Project Timeline—proposed schedules with realistic estimated project completion dates that are nearer in the future will be evaluated more highly than proposed schedules with estimated project completion dates that are further in the future and/or are unrealistic.

• Willingness and ability of the Local Authority(ies) to cooperate with the Project Proponent Team—based on the letter(s) from or descriptions of engagement with the Local Authority(ies).

Competition entries with letter(s) will be evaluated more highly than entries with only descriptions of the engagement between the Project Proponent Team and the Local Authority(ies)

3. Proposed Wood Solution—Mandatory Element Criteria—25%

• Viability of the proposed wood structural solution—based on the system and materials proposed, the level of detail provided about the proposed system, the demonstrated feasibility of the system, and the practicality of the proposed system and its potential for repeat use in the industry.

4. Sustainability—Mandatory Element Criteria—15%

• Amount of reduction in environmental footprint over a similar building constructed using traditional materials.

• Amount and types of sustainability elements featured in the project.

• Feasibility of realizing the estimated levels of impact of the project from a sustainability and performance perspective.

5. Rural Economic Ties—Mandatory Element Criteria—15%

• Feasibility of realizing positive impacts to the U.S. rural economy from the project and/or wood materials used in the project—based on demonstration of the project's potential to be a catalyst for supporting emerging demand for new domestic rural manufacturing and employment opportunities.

• Quality of the plan for development of a Tall Wood Building Demonstration Report (A Case Study).

• Creation of direct rural economic opportunity related to the project—based on documentation of commitment to source wood materials from U.S. Rural Sources.

The Judging Panel will evaluate entries based upon the following optional element criteria:

1. Project Specifics and Details—Optional Element Criteria—Bonus 5%

• A description of the proposed building enclosure solution and its viability.

2. Business Case for Project—Optional Element Criteria—Bonus 5%

• Project Proponent Team's past experience with completed design and construction of projects that are similar to the proposed project in form and scale.

3. Proposed Wood Solution—Optional Element Criteria—Bonus 5%

• A reasonably detailed estimate of construction costs and savings comparing the proposed wood solution to other traditional methods and materials for the proposed project.

• A description of the fire protection strategy being proposed and its viability.

4. Sustainability—Optional Element Criteria—Bonus 5%

• Documentation that links the wood materials and products to be sourced for the proposed project to sustainable timber harvest practices, certifications, or other sustainable land management initiatives.

5. Rural Economic Ties—Optional Element Criteria—Bonus 5%

• Competition entries that go beyond a commitment statement to include details of how and where in rural America wood materials will be sourced will be evaluated more highly than less detailed entries.

Additional Rules and Conditions

A. General Conditions

By entering the Competition, each Project Proponent Team guarantees that its entry complies with all applicable Federal and state laws and regulations.

Each Project Proponent Team warrants that its entry is free of viruses, spyware, malware, or any other malicious, harmful, or destructive device. Project Proponent Teams submitting entries containing any such device will be held liable and may be prosecuted to the fullest extent of the law.

Entries containing any matter which, in the sole discretion of Competition Sponsor, is indecent, defamatory, in obvious bad taste, which demonstrates a lack of respect for public morals or conduct, which promotes discrimination in any form, which shows unlawful acts being performed, which is slanderous or libelous, or which adversely affects the reputations of Competition Sponsor or any of the Competition Partners will not be accepted. If the Competition Sponsor, in its sole discretion, finds any entry to be unacceptable then such entry shall be deemed disqualified and will not be evaluated or considered for award.

The winning Project Proponent Team(s) must comply with all applicable laws and regulations regarding Prize Purse receipt and disbursement. The winning Project Proponent Team(s) also must comply with all terms and conditions of the Funding Agreement(s) to be entered into between the winning Project Proponent Team(s) and the Competition Sponsor.

Competition Sponsor's failure to enforce any term of any applicable rule or condition shall not constitute a waiver of that term.

B. Entry Conditions & Release

By entering the Competition, each Project Proponent Team agrees to: (1) Comply with and be bound by all applicable rules and conditions, and the decisions of the Competition Sponsor and Competition Partners, which are binding and final in all matters relating to this Competition; (2) release and hold harmless the Competition Sponsor and the Competition Partners and all their respective past and present officers, directors, employees, agents, and representatives (collectively the “Released Parties”) from and against any and all claims, expenses, and liability arising out of or relating to the Project Proponent Team's entry or participating in the Competition and/or the Project Proponent Team's acceptance, use, or misuse of the Prize Purse or recognition.

The Released Parties are not responsible for: (1) Any incorrect or inaccurate information, whether caused by Project Proponent Teams, printing errors, or by any of the equipment or programming associated with or used in the Competition; (2) technical failures of any kind, including, but not limited to, malfunctions, interruptions, or disconnections in phone lines or network hardware or software; (3) unauthorized human intervention in any part of the entry process for the Competition; (4) technical or human error that may occur in the administration of the Competition or the processing of entries; or (5) any injury or damage to persons or property that may be caused, directly or indirectly, in whole or in part, from Project Proponent Team's participation in the Competition or receipt or use or misuse of the Prize Purse. If for any reason a Project Proponent Team's entry is confirmed to have been deleted erroneously, lost, or otherwise destroyed or corrupted, Project Proponent Team's sole remedy is to submit another entry in the Competition.

C. Termination and Disqualification

Competition Sponsor reserves the authority to cancel, suspend, and/or modify the Competition, or any part of it, if any fraud, technical failures, or any other factor beyond Competition Sponsor's reasonable control impairs the integrity or proper functioning of the Competition, as determined by Competition Sponsor in its sole discretion.

Competition Sponsor reserves the right to disqualify any Project Proponent Team it believes to be tampering with the entry process or the operation of the Competition or to be acting in violation of any applicable rule or condition.

Any attempt by any person to undermine the legitimate operation of the Competition may be a violation of criminal and civil law, and, should such an attempt be made, Competition Sponsor reserves the authority to seek damages from any such person to the fullest extent permitted by law.

D. Verification of Potential Winner(s)

All potential competition winners are subject to verification by competition sponsor whose decisions are final and binding in all matters related to the competition.

Potential winner(s) must continue to comply with all terms and conditions of the Competition rules, and winning is contingent upon fulfilling all requirements. The potential winner(s) will be notified by email and/or telephone. If a potential winner cannot be contacted, or if the notification is returned as undeliverable, the potential winner forfeits. In the event that a potential winner, or an announced winner, is found to be ineligible or is disqualified for any reason, the Competition Sponsor may make award, instead, to the next runner up, as previously determined by the Judging Panel.

Prior to awarding the Prize Purse, USDA will verify that the potential winner(s) is/are not suspended, debarred, or otherwise excluded from doing business with the U.S. Federal Government. Suspended, debarred, or otherwise excluded parties will not be eligible to win the Competition.

Prior to being awarded the Prize Purse the potential winner(s) must:

1. Provide the letter(s) of cooperation from the Local Authority(ies);

2. Complete a certification of eligibility attesting to the Project Proponent Team's fulfillment of all the eligibility requirements (the certification form will be provided to the potential winner(s) by Competition Sponsor);

3. Enter into a Funding Agreement with Competition Sponsor. The Funding Agreement governs the obligations of the Project Proponent Team, including the addition of the United States of America as a named insured on general liability and umbrella insurance policies; the process for submitting Eligible Expenses; and disbursements from and administration of the Prize Purse. A sample Funding Agreement can be found on the Competition Web site: www.tallwoodbuildingcompetition.org.

E. Intellectual Property

By entering the Competition, each Project Proponent Team warrants that it is the author and/or authorized owner of its entry, and that the entry is wholly original with the Project Proponent Team (or is an improved version of an existing project plan that the Project Proponent Team is legally authorized to enter into the Competition), and that the submitted entry does not infringe any copyright, patent, or any other rights of any third party. Each Project Proponent Team agrees to hold the Released Parties harmless for any infringement of copyright, trademark, patent, and/or other real or intellectual property right that may be caused, directly or indirectly, in whole or in part, from Project Proponent Team's participation in the Competition.

All legal rights in any materials produced or submitted in entering the Competition are retained by the Project Proponent Team and/or the legal holder of those rights. Entry into the Competition constitutes express authorization for Competition Sponsor, Competition Sponsor's staff, Competition Partners', Competition Partners' staff, and the Judging Panel to review and analyze any and all aspects of submitted entries, including any trade secret or proprietary information contained in or evident from review of the submitted entries.

Legal rights in materials produced during design and construction of the winning project(s) will be negotiated as part of the Funding Agreement entered into between Competition Sponsor and the winning Project Proponent Team(s).

A sample Funding Agreement, containing draft intellectual property language, can be found on the Competition Web site: www.tallwoodbuildingcompetition.org.

F. Publicity & Availability of Project for Demonstration Purposes

By entering the Competition, each Project Proponent Team consents, as applicable, to Competition Sponsor's and Competition Partners' use of the names, likenesses, photographs, voices, and/or opinions of each member of the Project Proponent Team both individually and collectively, and disclosure of their hometowns and States for promotional purposes in any media, worldwide, without further payment or consideration.

During construction of the winning project(s) and for a period of three (3) years after completion, upon advance notice, the Project Proponent Team shall provide the Competition Sponsor or Competition Partners' representatives, and any representatives' guests, reasonable access to any premises where the project takes place (i) to assess the project's progress or any element thereof; and/or (ii) to showcase the project as a demonstration of the capabilities of wood structural products in tall building construction.

G. Privacy & Disclosure Under FOIA

Personal and contact information is not collected for commercial or marketing purposes. Information submitted throughout the Competition will be used only to communicate with Project Proponent Teams regarding entries and/or the Competition.

Project Proponent Teams entries to the Competition may be subject to disclosure under the Freedom of Information Act (“FOIA”). If a Project Proponent Team believes that all or part of its Competition entry is protected from release under FOIA (e.g., if the information falls under FOIA exemption #4 for “trade secrets and commercial or financial information obtained from a person [that is] privileged or confidential”) the Project Proponent Team will be responsible for clearly marking the page(s)/section(s) of information it believes are protected.

Dated: October 3, 2014.
Doug O'Brien,
Acting Under Secretary, Rural Development.

[FR Doc. 2014-24198 Filed 10-9-14; 8:45 am]

BILLING CODE 3410-XY-P